DEPARTMENT OF COMMERCE

International Trade Administration

United States Travel and Tourism Advisory Board: Meeting of the United States Travel and Tourism Advisory Board

AGENCY: International Trade Administration, Department of Commerce.

ACTION: Notice of an open meeting.

SUMMARY: The United States Travel and Tourism Advisory Board (Board or TTAB) will hold a meeting on Wednesday, September 15, 2021. The Board advises the Secretary of Commerce on matters relating to the U.S. travel and tourism industry. The purpose of the meeting is for Board members to discuss the current state of recovery of the travel and tourism industry and for the Secretary of Commerce to charge the Board with developing recommendations in key areas. The final agenda will be posted on the Department of Commerce website for the Board at https://www.trade.gov/ttab-meetings at least two days prior to the meeting.

DATES: Wednesday, September 15, 2021, 11:00 a.m.-12:30 p.m. EDT. The deadline for members of the public to register for the meeting or to submit written comments for dissemination prior to the meeting is 5:00 p.m. EDT on Friday, September 10, 2021.

ADDRESSES: The meeting will be held at the Department of Commerce in Washington, DC. The meeting is open to the public via teleconference technology. The Board website (https://www.trade.gov/ttab-meetings) will maintain the most current information on the meeting agenda and schedule. These items may be updated without further notice in the Federal Register. A copy of Board meeting minutes will be available within 90 days of the meeting. The public may also submit statements or questions via the Board email address, TTAB@trade.gov. If you wish the Board to consider your statement or question during the meeting, we must receive your written statement or question no later than 5:00 p.m. (EDT) on Friday, September 10, 2021. We will provide all statements or questions received after the deadline to the members; however, they may not consider them during the meeting.

FOR FURTHER INFORMATION CONTACT: Jennifer Aguinaga, the United States Travel and Tourism Advisory Board, National Travel and Tourism Office, U.S. Department of Commerce; telephone: 202-482-2404; email: TTAB@trade.gov.

Jennifer Aguinaga,
Designated Federal Officer, United States Travel and Tourism Advisory Board.

[FR Doc. 2021-18526 Filed 8-26-21; 8:45 am]

BILLING CODE 3510-DR-P